DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (“we”) solicits review and comment from the public, and from local, State, and Federal agencies on the following permit requests.

DATES: Comments on these permit applications must be received on or before August 19, 2005.

ADDRESSES: Written data or comments should be submitted to the U.S. Fish and Wildlife Service, Chief, Endangered Species, Ecological Services, 911 NE. 11th Avenue, Portland, Oregon 97232-4181 (telephone: (503) 231-2063; fax: (503) 231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any individual or organization who submits a written request for a copy of such documents to the address above. Please refer to the respective permit number for each application when requesting copies of documents.

SUPPLEMENTARY INFORMATION:

Permit No. TE-103582

Applicant: National Audubon Society, Haleiwa, Hawaii.

The applicant requests a permit to take (harass by survey, locate and monitor nests, and control predators) the Hawaiian moorhen (Gallinula chloropus sandvicensis) in conjunction with monitoring activities and habitat enhancement in Honolulu County, Hawaii, for the purpose of enhancing its survival.

Permit No. TE-043638

Applicant: U.S. Army Garrison, Schofield Barracks, Hawaii.

The permittee requests an amendment to remove/reduce to possession (collect, propagate, store seed, and reintroduce) Chamaescyce herbstii (Akoko), Hesperomannia arbuscula (no common name), Phyllostegia kaalaensis (no common name), and Schiedea kaalae (no common name) in conjunction with activities to stabilize these species on military land on Oahu Island, Hawaii, for the purpose of enhancing their survival.

We solicit public review and comment on each of these recovery permit applications.

Dated: June 20, 2005.
David J. Wesley,
Acting Regional Director, Region 1, U.S. Fish and Wildlife Service.

[FR Doc. 05-14224 Filed 7-19-05; 8:45 am]

BILLING CODE 4310-55-P